DEPARTMENT OF HOMELAND SECURITY

Coast Guard

[Docket Number: USCG-2023-0922]

Designation of the New England Commission of Higher Education as a Designated Entity and Appointment of Dr. Amy Donahue as a Member of the Commission

AGENCY: Coast Guard, Department of Homeland Security (DHS).

ACTION: Notice.

SUMMARY: The Coast Guard announces the designation of the New England Commission of Higher Education (NECHE) as a designated non-federal entity for the purposes of participation in its management by an authorized Coast Guard employee. Dr. Amy Donahue, the Provost of the Coast Guard Academy, has been authorizated to serve as a member of NECHE to provide oversight of, advice to, and coordination with, NECHE. Dr. Donahue will not participate in the day-to-day operations of NECHE.

DATES: The designation and authorization are effective on November 21, 2023.

ADDRESSES: To view documents mentioned in this preamble as being available in the docket, go to https://www.regulations.gov, type USCG-2023-0922 in the search box and click “Search.” Next, in the Document Type column, select “Supporting & Related Material.”

FOR FURTHER INFORMATION CONTACT: If you have questions on this notice, call or email Comamnder Jeffrey G. Janaro, Coast Guard Academy, telephone 860-444-8255, email jeff.g.janaro@uscg.mil.

SUPPLEMENTARY INFORMATION: The Coast Guard announces the designation of the New England Commission of Higher Education (NECHE) as a “designated entity” under 10 U.S.C. 1589 and 1033. The Coast Guard also announces the participation of the Coast Guard Academy Provost Dr. Amy Donhue in the management of the entity as a Commisioner. Sections 1589 and 1033 allow the Secretary of the Department of Homeland Security to specify certain non-federal entities as “designated entities” in which a member of the armed forces or a civilian employee may be authorized to participate in a specific capacity. The Secretary delegated this authority to the Commandant of the Coast Guard through the Department of Homeland Security Delegation No. 00170.1, Revision No. 01.3 (paragraph II.14).

A “designated entity” must meet the requirements of 10 U.S.C. 1033. In relevant part, section 1033 requires an entity to be a non-profit oganization and perform one of the statutorily enumerated functions, including accreditation of service academies and other schools of the armed forces. NECHE is a voluntary non-government association that provides accreditation to the U.S. Coast Guard Academy. Therefore, NECHE is an entity that may be designated under 10 U.S.C. 1033 and, in turn, 10 U.S.C. 1589.

Section 1589 also allows the Secretary concerned to authorize an employee, including a civilian officer, to participate, without compensation, in the managemenent of a designated entity for the purposes of oversight, advice to, and coordination with that designated entity. An employee's participation may not extend to the day to day operations of the entity. The Coast Guard Academy announces the authorization of Dr. Amy Donahue, the Provost of the Coast Guard Academy, to participate in the management of NECHE within limits of 10 U.S.C. 1033 and 10 U.S.C. 1589. Specifically, and in accordance with 10 U.S.C. 1589, Dr. Donahue will serve in her official capacity, and without additional compensation, provide oversight, advice, and coordination with NECHE. Dr. Donahue's participation will not, however, extend to participation in the day-to-day operations of the NECHE.

The effective date of NECHE's designation and Dr. Donahue's authorization is November 21, 2023. This notice is issued under the authority in 10 U.S.C. 1033(c) and 1589(c).

E.J. Van Camp,
Captain, U.S. Coast Guard, Assistant Superintendent, U.S. Coast Guard Academy.

[FR Doc. 2023-27816 Filed 12-18-23; 8:45 am]

BILLING CODE 9110-04-P